DEPARTMENT OF HEALTH AND HUMAN SERVICES

Indian Health Service

[System Number 09-17-0003]

Privacy Act of 1974; Report of an Altered System of Records Medical Staff Credentials and Privileges Records

AGENCY: Department of Health and Human Services (HHS), Indian Health Service (IHS).

ACTION: Amendment of one altered Privacy Act system of records.

SUMMARY: Pursuant to the provisions of the Privacy Act of 1974, as amended, 5 U.S.C. 552a(e)(4), the IHS has amended and is publishing the proposed alteration of a system of records, System No. 09-17-0003, “Medical Staff Credentials and Privileges Records.” The amended and altered system of records makes several administrative revisions which includes the deletion of the Social Security Numbers (SSNs) language to comply with the Office of Management and Budget (OMB) Memorandum (M)07-16, Safeguarding Against and Responding to the Breach of Personally Identifiable Information (May 22, 2007); and the HHS Directive Memorandum of October 6, 2008 to all Operating Division Heads to develop and execute a plan to eliminate the unnecessary collection and use of SSNs; and the inclusion of a new routine use to comply with OMB (M)07-16 and the HHS Memorandum dated September 19, 2007 to incorporate Notification of Breach Routine Use language; and the update of the Appendix 1 of the SOR.

DATES: Effective Dates: IHS filed an altered system report with the Chair of the House Committee on Oversight and Government Reform, the Chair of the Senate Committee on Homeland Security and Governmental Affairs, and the Administrator, Office of Information and Regulatory Affairs, OMB on September 9, 2009. To ensure that all parties have adequate time in which to comment, the altered SOR will become effective 40 days from the publication of the notice, or from the date it was submitted to OMB and the Congress, whichever is later, unless IHS receives comments on all portions of this notice.

ADDRESSES: The public should address comments to: Mr. William Tibbitts, IHS Privacy Act Officer, Division of Regulatory Affairs, Office of Management Services, 801 Thompson Avenue, TMP Suite 450, Rockville, MD 20852-1627; call non-toll free (301) 443-1116; send via facsimile to (301) 443-2316, or send your e-mail requests, comments, and return address to: William.Tibbitts@ihs.qov.

FOR FURTHER INFORMATION CONTACT: Contact Paul Fowler, D.O., J.D., IRS Risk Management Officer, Office of Clinical and Preventive Services, Suite 331, 801 Thompson Avenue, Rockville, Maryland 20852 or via the Internet at Paul.Fowler@ihs.gov.

SUPPLEMENTARY INFORMATION: As required by the Privacy Act of 1974, as amended, 5 U.S.C. 552a(e)(4), this document sets forth the amendment of the proposed alteration of a system of records maintained by the IRS. The purpose of altering System No. 09-17-0003, “Medical Staff Credentials and Privileges Records,” is to enable IRS to reflect current program changes, statutory and implementation changes. The exclusion of SSN language; the inclusion of a new routine use and revision or modification of the IHS addresses in Appendix 1 is necessary to this system of records.

Dated: August 28, 2009.
Yvette Roubideaux,
Director of Indian Health Service.

09-17-0003

SYSTEM NAME:

Indian Health Service Medical Staff Credentials and Privileges Records, HHS/IHS/OCPS.

SECURITY CLASSIFICATION:

None.

SYSTEM LOCATION:

Each IHS Area Office and each IHS Service Unit (see Appendix 1). Records may also be located at hospitals and offices of health care providers who are under contract to IHS. A current list of contractor sites is a available by writing to the appropriate System Manager (Area or Service Unit Director) at the address shown in Appendix 1.

CATEGORIES OF INDIVIDUALS COVERED BY THE SYSTEM:

Prospective, current and former IHS medical staff members. The term IHS medical staff includes fully licensed individuals permitted by law to provide patient care services independently and without concurrent professional direction or supervision, within the scope of his/her license and in accordance with individually granted clinical privileges. The IHS medical staff includes physicians (M.D. and D.O.) and dentists and may include other health care practitioners such as psychologists, optometrists, podiatrists, audiologists, and, in some States, certified nurse midwives. Types of assignment categories of current and former IHS medical staff members include the following:

Provisional—Those new members of the medical staff who are serving a required initial probationary period, as specified in the local medical staff bylaws. During this time, their qualifications for membership on the active or courtesy IHS medical staff are assessed.

Active—Those members who are Federal employees and/or spend at least fifty percent of their professional time providing patient care related services in the facility.

Temporary—Those members who provide services on a short-term basis or have applied for active medical staff membership and are awaiting a full credential review.

Courtesy or Associate—Those members who generally provide services on a periodic or episodic basis (e.g., consultants for specialty clinics).

CATEGORIES OF RECORDS IN THE SYSTEM:

Contains name, SSN, IHS medical staff membership and privileges applications and associated forms, employment data, liability insurance coverage, credentialing history of licensed health professionals, personal, educational, and demographic background information, professional performance information consisting of continuing education, performance awards, and adverse or disciplinary actions, and evaluations and approvals completed by IHS medical staff reviewers.

AUTHORITY FOR MAINTENANCE OF THE SYSTEM:

Federal Records Act (44 U.S.C. 2901), Privacy Act of 1974, as amended (5 U.S.C. 552a), Indian Self Determination and Education and Assistance Act (25 U.S.C. 450), Snyder Act (25 U.S.C. 13), Indian Health Care Improvement Act (25 U.S.C. 1601 et seq.), Indian Health Service Transfer Act (42 U.S.C. 2001-2004).

PURPOSE(S):

The purposes of this system are:

1. To ensure that IHS medical staff members are qualified, competent and capable of delivering quality health services consistent with those of the medical community at large and that they are granted privileges commensurate with their training and competence and with the ability of the facility to provide adequate support equipment, services, and staff.

2. To inform health care practitioner(s) and staff of health care facilities, State or county health professional societies or licensing boards to whom the subject individual may apply for clinical privileges, membership or licensure, of the subject individuals professional competence, character and ethical qualifications. This may include information regarding drug or alcohol abuse or dependency. Within the Department such releases may be made to personnel staffs of HHS Regional Offices.

3. To provide adverse health care practice information to the National Practitioner Data Bank-Healthcare Integrity and Protection Data Bank (NPDB-HIPDB) established under Title IV of Public Law 99-660, the Health Care Quality Improvement Act of 1986, and Section 221(a) of Public Law 104-191, the Heath Insurance Portability and Accountability Act of 1996. The purpose of such a release is to provide information concerning a current or former IHS medical staff member whose professional health care activity failed to conform to generally accepted standards of professional medical practice.

4. To provide health care practice information concerning current or former members of the IHS medical staff with Commissioned Corps status to the Division of Commissioned Personnel, U.S. Public Health Service, so that an informed decision may be made concerning the promotion, retention, or reassignment of the subject individual.

ROUTINE USES OF RECORDS MAINTAINED IN THE SYSTEM, INCLUDING CATEGORIES OF USERS AND THE PURPOSES OF SUCH USES:

1. Records may be disclosed to organizations authorized to conduct evaluation studies concerning the delivery of health care services by the IHS (e.g., Joint Commission on the Accreditation of Healthcare Organizations).

2. IHS may disclose records consisting of name, employment history and any professional qualification information concerning medical staff membership and privileges, professional competence, clinical judgment and personal character to a State or local government health professional licensing board, to the Federation of State Medical Boards, to the NPDB-RIPDB established under Title IV of Public Law 99-660 and Section 221(a) of Public Law 104-191, and/or to a similar entity which has the authority to maintain records concerning the issuance, retention or revocation of licenses or registrations necessary to practice a health professional occupation or specialty.

The purpose of this disclosure is to inform medical profession licensing boards and appropriate entities about the health care practices of a current, terminated, resigned, or retired IHS medical staff member whose professional health care activity significantly failed to conform to generally accepted standards of professional medical practice. This will be done within the guidelines for notice, hearing, and review as delineated in the medical staff bylaws for the IHS facility and/or within other HHS or IRS regulations or policies.

3. IHS may disclose biographic data and information supplied by potential applicants to (a) references listed on the IHS medical staff and/or privileges application and associated forms for the purpose of evaluating the applicant's professional qualifications, experience, and suitability, and (b) a State or local government health profession licensing board, to a health-related professional organization, to the Federation of State Medical Boards, and to the NPDB HIPDB established under Title IV of Public Law 99-660 and Section 221(a) of Public Law 104-191 or a similar entity for the purpose of verifying that all claimed background and employment data are valid and all claimed credentials are current and in good standing.

4. Records may be disclosed to other Federal agencies (including the Office of Personnel Management for subject individuals applying for or maintaining Civil Service appointments)/to State and local governmental. agencies, and to organizations in the private sector to which the subject individual applies for clinical privileges, membership or licensure for the purpose of documenting the qualifications and competency of the subject individual to provide health services in his/her health profession based on the individual's professional performance while employed by the IHS.

5. The Department may disclose information from this system of records to the Department of Justice (DOJ), or to a court or other tribunal, when (a) HHS, or any component thereof, or (b) any HHS employee in his or her official capacity; or (c) any HHS employee in his or her individual capacity where the DOJ (or HHS, where it is authorized to do so) has agreed to represent the employee; or (d) the United States or any agency thereof where HHS determines that the litigation is likely to affect HHS or any of its components, is a party to litigation or has an interest in such litigation, and HHS determines that the use of such records by the DOJ, the court or other tribunal is relevant and necessary to the litigation and would help in the effective representation of the governmental party, provided, however, that in each case, HH determines that such disclosure is compatible with the purpose for which the records were collected.

6. Records may be disclosed to a congressional office from the record of an individual in response to a verified inquiry from the congressional office made at the written request of that individual.

7. In the event that a system of records maintained by the IHS to carry out its functions indicates a violation or potential violation of law, whether civil, criminal, or regulatory in nature, and whether arising by general statute or particular program statute, or by regulation, rule or order issued pursuant thereto, the relevant records in the system of records may be referred to the appropriate agency, whether Federal, State, or local, charged with enforcing or implementing the statute or rule, regulation or order issued pursuant thereto.

8. To appropriate Federal agencies and Department contractors that have a need to know the information for the purpose of assisting the Department's efforts to respond to a suspected or confirmed breach of the security or confidentiality of information maintained in this system of records, and the information disclosed is relevant and necessary for that assistance.

POLICIES AND PRACTICES FOR STORING, RETRIEVING, ACCESSING, RETAINING, AND DISPOSING OF RECORDS IN THE SYSTEM:

STORAGE:

File folders and computer-based or electronic files.

RETRIEVABILITY:

Indexed and retrieved by name, and any other identifying numbers necessary to establish the identity of an individual whose record is maintained in the system of records.

SAFEGUARDS:

1. Authorized Users: Access is limited to authorized personnel for use in the performance of their official duties. Authorized personnel include: Physician Recruitment and other Health Professions Branch Staff and Area Governing Board Members at IHS Area Offices, and Service Unit Directors, Clinical Directors and members of the Credentials and Privilege Committee of each IHS Service Unit. At each location where records in this system will be maintained, a list of personnel or categories of personnel having an official need-to-know has been developed and is maintained.

2. Physical Safeguards: Records are kept in locked metal filing cabinets or in locked desk drawers in secured rooms at all times when not actually in use during working hours and at all times during non-working hours. Record storage areas, including file cabinets and desks, are not left unattended or unlocked during office hours, including lunch hours. Computer-based or electronic records are password protected security and any additional internal security for database (linked or unlinked).

3. Procedural Safeguards: Persons who have an official need-to-know are entrusted with records from this system of records and are instructed to safeguard the confidentiality of these records and to destroy all copies or to return such records when the need to know has expired. Instructions include the statutory penalties for noncompliance. Proper charge-out procedures are followed for the removal of records from the area in which they are maintained. Before an employee who will control disclosure of records can work with the records (i.e., employees who report to the system manager) the system manager or designee ensures that the employee has received training in the safeguards applicable to the records and is aware of the actions to take to restrict disclosure. When copying records for authorized purposes, care is taken to ensure that any imperfect pages are not left in the reproduction room where they can be read but are destroyed or obliterated.

4. Implementation Guidelines: DHHS Chapter 45-13 and supplementary Chapter PHS.hf:45-13 of the General Administration Manual; DHHS, “Automated Information Systems Security Program Handbook,” as amended; DHHS IRM Policy HHS-IRM-2000-0005, “IRM Policy for IT Security for Remove Access; OMB Circular A-130 “Management of Federal Information Resources”; and E-Government Act of 2002 (Pub. L. 107-347, 44 U.S.C. Ch 36).

5. Retention and disposal: Records are maintained by IHS for at least ten years after the individual's termination of employment or association with IHS. Records of unsuccessful applicants for medical staff membership will be retained for three years after his/her rejection. After these periods of retention expire, records are destroyed by shredding or burning.

SYSTEM MANAGER(S) AND ADDRESS:

See Appendix 1.

POLICY COORDINATING OFFICIAL:

Director, Office of Clinical and Preventive Services, IHS, 801 Thompson Avenue, Suite 300, Rockville, Maryland 20852. The IHS Clinical Directors at all IHS Service Units listed in Appendix 1 are System Managers. IHS medical staff credentials and privileges files are stored at these locations. Other addresses listed in Appendix 1 are locations at which all or parts of these records may also be stored (Physician Recruiter at IRS Area Offices). Post Office box designations appearing in Appendix 1 should be specified when making requests by mail.

NOTIFICATION PROCEDURE:

Requests must be made to the appropriate System Manager (Clinical Director for the appropriate Service Unit) listed in Appendix 1.

REQUESTS BY MAIL:

Requests for information and/or access to records received by mail must contain information providing the identity of the writer and a reasonable description of the record desired. Written requests must contain, at a minimum, the name, signature, and address of the requester, and for unsuccessful applicants the date when the application was submitted, and for current or former IHS health care providers the dates and locations of service. We may request additional identification when we hold records for different persons with the same name or where an apparent discrepancy exists between information contained in the record and that provided by the individual requesting access to the record.

OTHER NAMES USED:

Where an individual is seeking to obtain information about himself/herself which may be retrieved by a different name than his/her current name, he/she shall be required to produce evidence to verify that he/she is the person whose record he/she seeks.

REQUESTS IN PERSON:

A subject individual who appears in person at a specific location (where he or she currently works or formerly worked) seeking access or disclosure of records contained in this system of records relating to him/her shall provide the information described in “Requests by mail” (above) and at least one piece of tangible identification such as a driver's license or passport.

REQUESTS BY TELEPHONE:

Since positive identification of the caller cannot be established, telephone requests are not honored.

RECORD ACCESS PROCEDURES:

SAME AS NOTIFICATION PROCEDURE:

Requesters should also provide a reasonable description of the record being sought. Requesters may also request an accounting of disclosures that have been made of their records, if any.

CONTESTING RECORD PROCEDURES:

Write to the appropriate Service Unit Clinical Director at the address specified in Appendix 1 and reasonably identify the record, specify the information being contested, and state the corrective action sought, and the reasons for requesting the correction, along with supporting information to show how the record is inaccurate, incomplete, untimely, or irrelevant.

RECORD SOURCE CATEGORIES:

Subject individual, IRS health care personnel, references supplied by the subject individual, professional societies or associations, specialty boards, colleges and universities attended by the subject individual, former employers, health facilities or health providers with which the subject individual was associated, liability insurance carriers, organizations providing cardiopulmonary resuscitation training to the subject individual, State and local health and health care licensing or certifying organizations, and organizations which serve as repositories of information on health care professionals.

SYSTEMS EXEMPTED FROM CERTAIN PROVISIONS OF THE ACT:

None.

Appendix 1: System Managers and IRS Locations Under Their Jurisdiction Where Records Are Maintained

Director, Aberdeen Area Indian Health Service, Room 309, Federal Building, 115 Fourth Avenue, SE., Aberdeen, South Dakota 57401.

Director, Cheyenne River Service Unit, Eagle Butte Indian Hospital, P.O. Box 1012, Eagle Butte, South Dakota 57625.

Director, Crow Creek Service Unit, Ft. Thompson Indian Health Center, P.O. Box 200, Ft. Thompson, South Dakota 57339.

Director, Fort Berthold Service Unit, Fort Berthold Indian Health Center, P.O. Box 400, New Town, North Dakota 58763.

Director, Carl T. Curtis Health Center, P.O. Box 250, Macy, Nebraska 68039.

Director, Fort Totten Service Unit, Fort Totten Indian Health Center, P.O. Box 200, Fort Totten, North Dakota 58335.

Director, Kyle Indian Health Center, P.O. Box 540, Kyle, South Dakota 57752.

Director, Lower Brule Indian Health Center, P.O. Box 191, Lower Brule, South Dakota 57548.

Director, McLaughlin Indian Health Center, P.O. Box 879, McLaughlin, South Dakota 57642.

Director, Omaha-Winnebago Service Unit, Winnebago, Indian Hospital, Winnebago, Nebraska 68071.

Director, Pine Ridge Service Unit, Pine Ridge Indian Hospital, Pine Ridge, South Dakota 57770.

Director, Rapid City Service Unit, Rapid City Indian Hospital, 3200 Canyon Lake Drive, Rapid City, South Dakota 57701.

Director, Rosebud Service Unit, Rosebud Indian Hospital, Rosebud, South Dakota 57570.

Director, Sisseton-Wahpeton Service Unit, Sisseton Indian Hospital, P.O. Box 189, Sisseton, South Dakota 57262.

Director, Standing Rock Service Unit, Fort Yates Indian Hospital, P.O. Box J, Fort Yates, North Dakota 58538.

Director, Trenton-Williston Indian Health Center, P.O. Box 210, Trenton, North Dakota 58853.

Director, Turtle Mountain Service Unit, Belcourt Indian Hospital, P.O. Box 160, Belcourt, North Dakota 58316.

Director, Wanblee Indian Health Center, 100 Clinic Drive, Wanblee, South Dakota 57577.

Director, Yankton-Wagner Service Unit, Wagner Indian Hospital, 110 Washington Street, Wagner, South Dakota 57380.

Director, Youth Regional Treatment Center, P.O. Box #68, Mobridge, South Dakota 57601.

Director, Sac &; Fox Health Center, 307 Meskwaki Road, Tama, Iowa 52339.

Director, Santee Health Center, RR2, P.O. Box 160L, Niobrara, Nebraska 68760.

Director, Alaska Area Native Health Service, 4141 Ambassador Drive, Suite 300, Anchorage, Alaska 99508-5928.

Director, Albuquerque Area Health Service, 5300 Homestead Road, NE, Albuquerque, New Mexico 87110.

Director, Acoma-Canoncito-Laguna Service Unit, Acoma-Canoncito-Laguna Indian Hospital, P.O. Box 130, San Fidel, New Mexico 87049.

Director, To-Hajille Health Center, P.O. Box 3528, Canoncito, New Mexico 87026.

Director, New Sunrise Treatment Center, P.O. Box 219, San Fidel, New Mexico 87049.

Director, Albuquerque Service Unit, Albuquerque Indian Hospital, 801 Vassar Drive, NE., Albuquerque, New Mexico 87106.

Director, Albuquerque Indian Dental Clinic, P.O. Box 67830, Albuquerque, New Mexico 87193.

Director, Santa Fe Service Unit, Santa Fe Indian Hospital, 1700 Cerrillos Road, Santa Fe, New Mexico 87505.

Director, Santa Clara Health Center, RRS, Box 446, Espanola, New Mexico 87532.

Director, San Felipe Health Center, P.O. Box 4344, San Felipe, New Mexico 87001.

Director, Cochiti Health Center, P.O. Box 105, 255 Cochiti Street, Cochiti, New Mexico 87072.

Director, Santo Domingo Health Center, P.O. Box 340, Santo Domingo, New Mexico 87052.

Director, Southern Colorado-Ute Service Unit, P.O. Box 778, Ignacio, Colorado 81137.

Director, Ignacio Indian Health Center, P.O. Box 889, Ignacio, Colorado 81137.

Director, Ute Mountain Ute Health Center, Towaoc, Colorado 81334.

Director, Jicarilla Indian Health Center, P.O. Box 187, Dulce, New Mexico 87528.

Director, Mescalero Service Unit, Mescalero Indian Hospital, P.O. Box 210, Mescalero, New Mexico 88340.

Director, Taos/Picuris Indian Health Center, P.O. Box 1956, 1090 Goat Springs Road, Taos, New Mexico 87571.

Director, Zuni Service Unit, Zuni Indian Hospital, P.O. Box 467, Zuni, NM 87327.

Director, Pine Hill Health Center, P.O. Box 310, Pine Hill, New Mexico 87357.

Director, Bemidji Area Indian Health Service, 522 Minnesota Avenue, N.W., Bemidji, Minnesota 56601.

Director, Red Lake Service Unit, PHS Indian Hospital, Highway 1, Red Lake, Minnesota 56671.

Director, Leech Lake Service Unit, PHS Indian Hospital, 425 7th Street, NW., Cass Lake, Minnesota 56633.

Director, White Earth Service Unit, PHS Indian Hospital, P.O. Box 358, White Earth, Minnesota 56591.

Director, Billings Area Indian Health Service, P.O. Box 36600, 2900 4th Avenue, North Billings, Montana 59101.

Director, Blackfeet Service Unit, Browning Indian Hospital, P.O. Box 760, Browning, Montana 59417.

Director, Heart Butte PHS Indian Health Clinic, Heart Butte, Montana 59448.

Director, Crow Service Unit, Crow Indian Hospital, Crow Agency, Montana 59022.

Director, Lodge Grass PHS Indian Health Center, Lodge Grass, Montana 59090.

Director, Pryor P1-IS Indian Health Clinic, P.O. Box 9, Pryor, Montana 59066.

Director, Fort Peck Service Unit, Poplar Indian Hospital, Poplar, Montana 59255.

Director, Fort Belknap Service Unit, Harlem Indian Hospital, Harlem, Montana 59526.

Director, Hays PHS Indian Health Clinic, Hays, Montana 59526.

Director, Northern Cheyenne Service Unit, Lame Deer Indian Health Center, Lame Deer, Montana 59043.

Director, Wind River Service Unit, Fort Washakie Indian Health Center, Fort Washakie, Wyoming 82514.

Director, Arapahoe Indian Health Center, Arapahoe, Wyoming 82510.

Director, Chief Redstone Indian Health Center, Wolf Point, Montana 59201.

Director, California Area Indian Health Service, John B. Moss Federal Building, 650 Capitol Mall, Suite 7-100, Sacramento, California 95814.

Director, Nashville Area Indian Health Service, 711 Stewarts Ferry Pike, Nashville, Tennessee 37214-2634.

Director, Catawba PHS Indian Nation of South Carolina, P.O. Box 188, Catawba, South Carolina 29704.

Director, Unity Regional Youth Treatment Center, P.O. Box 27 C-201, Cherokee, North Carolina 28719.

Director, Navajo Area Indian Health Service, P.O. Box 9020, Highway 264, Window Rock, Arizona 86515-9020.

Director, Chinle Service Unit, Chinle Comprehensive Health Care Facility, P.O. Drawer PH, Chinle, Arizona 86503.

Director, Tsaile Health Center, P.O. Box 467, Navajo Routes 64 &; 12, Tsaile, Arizona 86556.

Director, Rock Point Field Clinic, c/o Tsaile Health Center, P.O. Box 647, Tsaile, Arizona 86557.

Director, Pinon Health Center, P.O. Box 10, Pinon, Arizona 86510.

Director, Crownpoint Service Unit, Crownpoint Comprehensive Health Care Facility, P.O. Box 358, Crownpoint, New Mexico 87313.

Director, Pueblo Pintado Health Station, c/o Crownpoint Comprehensive Health Care Facility, P.O. Box 358, Crownpoint, New Mexico 87313.

Director, Fort Defiance Service Unit, Fort Defiance Indian Hospital, P.O. Box 649, Intersection of Navajo Routes N12 &; N7, Fort Defiance, Arizona 86515.

Director, Nahata Dziil Health Center, P.O. Box 125, Sanders, Arizona 86512.

Director, Gallup Service Unit, Gallup Indian Medical Center, P.O. Box 1337, 516 E. Nizhoni Boulevard, Gallup, New Mexico 87305.

Director, Tohatchi Indian Health Center, P.O. Box 142, Tohatchi, New Mexico 87325.

Director, Ft. Wingate Health Station, c/o Gallup Indian Medical Center, P.O. Box 1337, Gallup, New Mexico 87305.

Director, Kayenta Service Unit, Kayenta Indian Health Center, P.O. Box 368, Kayenta, Arizona 86033.

Director, Inscription House Health Center, P.O. Box 7397, Shonto, Arizona 86054.

Director, Dennehotso Clinic, do Kayenta Health Center, P.O. Box 368, Kayenta, Arizona 86033.

Director, Shiprock Service Unit, Northern Navajo Medical Center, P.O. Box 160, U.S. Hwy 491 North, Shiprock, New Mexico 87420.

Director, Dzilth-Na-O-Dith-Hle Indian Health Center, 6 Road 7586, Bloomfield, New Mexico 87413.

Director, Four Corners Regional Health Center, U.S. Hwy 160, Navajo Route 35-Red Mesa, HRC 6100, Box 30, Teec Nos Pos, AZ 86514

Director, Sanostee Health Station, c/o Northern Navajo Medical Center, P.O. Box 160, Shiprock, New Mexico 87420.

Director, Toadlena Health Station, c/o Northern Navajo Medical Center, P.O. Box 160, Shiprock, New Mexico 87420.

Director, Teen Life Center, c/o Northern Navajo Medical Center, P.O. Box 160, Shiprock, New Mexico 87420.

Director, Oklahoma City Area Indian Health Service, 701 Market Drive, Oklahoma City, Oklahoma 73114.

Director, Claremore Service Unit, Claremore Comprehensive Indian Health Facility, West Will Rogers Boulevard and Moore, Claremore, Oklahoma 74017.

Director, Clinton Service Unit, Clinton Indian Hospital, Route 1, Box 3060, Clinton, Oklahoma 73601-9303.

Director, El Reno PHS Indian Health Clinic, 1631A E. Highway 66, El Reno, Oklahoma 73036.

Director, Watonga Indian Health Center, Route 1, Box 34-A, Watonga, Oklahoma 73772.

Director, Haskell Service Unit, PHS Indian Health Center, 2415 Massachusetts Avenue, Lawrence, Kansas 66044.

Director, Lawton Service Unit, Lawton Indian Hospital, 1515 Lawrie Tatum Road, Lawton, Oklahoma 73501.

Director, Anadarko Indian Health Center, P.O. Box 828, Anadarko, Oklahoma 73005.

Director, Carnegie Indian Health Center, P.O. Box 1120, Carnegie, Oklahoma 73150.

Director, Holton Service Unit, PHS Indian Health Center, 100 West 6th Street, Holton, Kansas 66436.

Director, Pawnee Service Unit, Pawnee Indian Service Center, RR2, Box 1, Pawnee, Oklahoma 74058-9247.

Director, Pawhuska Indian Health Center, 715 Grandview, Pawhuska, Oklahoma 74056.

Director, Wewoka Indian Health Center, P.O. Box 1475, Wewoka, Oklahoma 74884.

Director, Phoenix Area Indian Health Service, Two Renaissance Square, 40 North Central Avenue, Phoenix, Arizona 85004.

Director, Colorado River Service Unit, Chemehuevi Indian Health Clinic, P.O. Box 1858, Havasu Landing, California 92363.

Director, Colorado River Service Unit, Havasupai Indian Health Station, P.O. Box 129, Supai, Arizona 86435.

Director, Colorado River Service Unit, Parker Indian Health Center, 12033 Agency Road, Parker, Arizona 85344.

Director, Colorado River Service Unit, Peach Springs Indian Health Center, P.O. Box 190, Peach Springs, Arizona 86434.

Director, Colorado River Service Unit, Sherman Indian High School, 9010 Magnolia Avenue, Riverside, California 92503.

Director, Elko Service Unit, Newe Medical Clinic, 400 “A” Newe View, Ely, Nevada 89301.

Director, Elko Service Unit, Southern Bands Health Center, 515 Shoshone Circle, Elko, Nevada 89801.

Director, Fort Yuma Service Unit, Fort Yuma Indian Hospital, P.O. Box 1368, Fort Yuma, Arizona 85366.

Director, Reams Canyon Service Unit, Hopi Health Care Center, P.O. Box 4000, Polacca, Arizona 86042.

Director, Phoenix Service Unit, Phoenix Indian Medical Center, 4212 North 16th Street, Phoenix, Arizona 85016.

Director, Phoenix Service Unit, Salt River Health Center, 10005 East Osborn Road, Scottsdale, Arizona 85256.

Director, San Carlos Service Unit, Bylas Indian Health Center, P.O. Box 208, Bylas, Arizona 85550.

Director, San Carlos Service Unit, San Carlos Indian Hospital, P.O. Box 208, San Carlos, Arizona 85550.

Director, Schurz Service Unit, Schurz Service Unit Administration, Drawer A, Schurz, Nevada 89427.

Director, Fort McDermitt Clinic, P.O. Box 315, McDermitt, Nevada 89421.

Director, Unitah and Ouray Service Unit, Fort Duchesne Indian Health Center, P.O. Box 160, Ft. Duchesne, Utah 84026.

Director, Whiteriver Service Unit, Cibecue Health Center, P.O. Box 37, Cibecue, Arizona 85941.

Director, Whiteriver Service Unit, Whiteriver Indian Hospital, P.O. Box 860, Whiteriver, Arizona 85941.

Director, Desert Vision Youth Wellness Center/RTC, P.O. Box 458, Sacaton, AZ 85247.

Director, Portland Area Indian Health Service, Room 476, Federal Building, 1220 Southwest Third Avenue, Portland, Oregon 97204-2829.

Director, Colville Service Unit, Colville Indian Health Center, P.O. Box 71-Agency Campus, Nespelem, Washington 99155.

Director, Fort Hall Service Unit, Not-Tsoo Gah-Nee Health Center, P.O. Box 717, Fort Hall, Idaho 83203.

Director, Warm Springs Service Unit, Warm Springs Indian Health Center, P.O. Box 1209, Warm Springs, Oregon 97761.

Director, Weilpinit Service Unit, David C. Wynecoop Memorial Clinic, P.O. Box 357, Wellpinit, Washington 99040.

Director, Western Oregon Service Unit, Chemawa Indian Health Center, 3750 Chemawa Road, NE., Salem, Oregon 97305-1198.

Director, Yakama Service Unit, Yakama Indian Health Center, 401 Buster Road, Toppenish, Washington 98948.

Director, Tucson Area Indian Health Service, 7900 South “J” Stock Road, Tucson, Arizona 85746-9352.

Director, Pascua Yaqui Service Unit, Division of Public Health, 7900 South “J” Stock Road, Tucson, Arizona 85746.

Director, San Xavier Indian Health Center, 7900 South “J” Stock Road, Tucson, Arizona 85746.

Director, Sells Service Unit, Santa Rosa Indian Health Center, HCO1, Box 8700, Sells, Arizona 85634.

Director, Sells Service Unit, Sells Indian Hospital, P.O. Box 548, Sells, Arizona 85634.

Director, Sells Service Unit, West Side Health Station, P.O. Box 548, Sells, Arizona 85634.

[FR Doc. E9-21422 Filed 9-8-09; 8:45 am]

BILLING CODE 4165-16-M